DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Evacuation Movement and Behavior Questionnaires.

OMB Control Number: None.

Form Number(s): None.

Type of Request: Regular submission.

Burden Hours: 1,111.

Number of Respondents: 6,666.

Average Hours per Response: 10 minutes.

Needs and Uses: The data will be collected via questionnaires on occupant behavior during regularly scheduled evacuation drills from high-rise buildings (varying heights, 1-10 stories, 11-20 stories, 21-35 stories, and 35+ stories) across the United States. The occupant behavioral information is to ascertain the occupants' knowledge of the procedure, awareness of the event, and behavior during the evacuation. This data will be used to improve egress designs for buildings, safety assessment models, and occupant training and education about what to do in an emergency.

Affected Public: Individuals or households.

Frequency: Annually.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806 or via the Internet at Jasmeet_K._Seehra@omb.eop.gov.

Dated: May 12, 2008.
Gwellnar Banks,
Management Analyst, Office of the Chief Information Officer.

[FR Doc. E8-10854 Filed 5-14-08; 8:45 am]

BILLING CODE 3510-13-P